ENVIRONMENTAL PROTECTION AGENCY

40 CFR Part 52

[EPA-R03-OAR-2015-0773; FRL-9941-07-Region 3]

Approval and Promulgation of Air Quality Implementation Plans; Pennsylvania; Attainment Plan for the North Reading Area for the 2008 Lead National Ambient Air Quality Standards

AGENCY: Environmental Protection Agency (EPA).

ACTION: Proposed rule.

SUMMARY: The Environmental Protection Agency (EPA) is proposing to approve a state implementation plan (SIP) revision submitted by the Commonwealth of Pennsylvania (the Commonwealth or Pennsylvania). This revision pertains to the Commonwealth's attainment plan for the North Reading nonattainment area (“North Reading Area” or “Area”) for the 2008 lead national ambient air quality standards (NAAQS), and includes a base year emissions inventory, an analysis of reasonably available control measures (RACM) (including reasonably available control technology (RACT)), a plan for reasonable further progress (RFP), a modeling demonstration of lead NAAQS attainment, and contingency measures. This action is being taken under the Clean Air Act (CAA).

DATES: Written comments must be received on or before February 10, 2016.

ADDRESSES: Submit your comments, identified by Docket ID Number EPA-R03-OAR-2015-0773 by one of the following methods:

A. www.regulations.gov. Follow the on-line instructions for submitting comments.

B. Email: fernandez.cristina@epa.gov.

C. Mail: EPA-R03-OAR-2015-0773, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0773. EPA's policy is that all comments received will be included in the public docket without change, and may be made available online at www.regulations.gov, including any personal information provided, unless the comment includes information claimed to be Confidential Business Information (CBI) or other information whose disclosure is restricted by statute. Do not submit information that you consider to be CBI, or otherwise protected, through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available in www.regulations.gov or may be viewed during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Ellen Schmitt, (215) 814-5787, or by email at schmitt.ellen@epa.gov.

SUPPLEMENTARY INFORMATION: On August 12, 2015, the Pennsylvania Department of Environmental Protection (PADEP) submitted a revision to its SIP for the purpose of demonstrating attainment of the 2008 lead NAAQS in the North Reading Area. Pennsylvania's lead attainment plan for the Area includes a base year emissions inventory, a modeling demonstration of lead NAAQS attainment, an analysis of RACM, RACT, and RFP, and contingency measures. The attainment plan includes portions of two Consent Order and Agreements (COA) between PADEP and Exide Technologies (Exide) and Yuasa Battery, Inc. (Yuasa) which demonstrate how Pennsylvania will achieve and maintain compliance with the 2008 lead NAAQS. The lead attainment plan specifically includes paragraph 3 of the COA between Exide and PADEP, dated June 15, 2015, and paragraphs 5 and 22 of the COA between Yuasa and PADEP, dated June 12, 2015.

EPA has determined that Pennsylvania's attainment plan for the 2008 lead NAAQS for the North Reading Area meets the applicable requirements of the CAA. Thus, EPA is proposing to approve Pennsylvania's attainment plan for the North Reading Area and paragraphs 3, 5, and 22, respectively, of the COAs between PADEP and Exide and Yuasa, as submitted on August 12, 2015.

EPA's analysis and findings are discussed for each applicable requirement in this rulemaking action. The three Technical Support Documents (TSDs) for this proposed action contain additional details on the base year inventory, modeling, control strategies, RFP, and contingency measures of the attainment demonstration. Copies of these TSDs can be found in the docket for this proposed action (EPA-R03-OAR-2015-0773) at www.regulations.gov.

I. Background

The North Reading attainment plan assesses lead emissions within the Area. Lead is a metal found naturally in the environment and present in some manufactured products. Human exposure to lead can cause a variety of adverse health effects, especially in children.¹

¹ A more detailed analysis of adverse health effects associated with lead exposure can be found in the Preamble of the 2008 lead NAAQS final rule, published in the Federal Register on November 12, 2008. See 73 FR 66964.

Lead is emitted into the air from many sources, encompassing a wide variety of stationary and mobile source types. In the United States, there has been a decrease in the emissions of lead from mobile sources, resulting from the reduction of lead additives to fuel. Most of the lead emissions in the North Reading Area come from permitted stationary sources within the Area.

On November 12, 2008 (73 FR 66964), EPA established a 2008 primary and secondary lead NAAQS at 0.15 micrograms per cubic meter (µg/m³) based on a maximum arithmetic 3-month mean concentration for a 3-year period. See 40 CFR 50.16. Following promulgation of a new or revised NAAQS, EPA is required by the CAA, as described in section 107(d)(1), to designate areas throughout the United States as attaining or not attaining the NAAQS. On November 22, 2010 (75 FR 71033), EPA published its initial air quality designations and classifications for the 2008 lead NAAQS based upon air quality monitoring data for calendar years 2007-2009. The November 22, 2010 notice included the nonattainment designation of the North Reading Area; an area within Berks County in the Commonwealth of Pennsylvania, bounded by Alsace Township, Laureldale Borough, and Muhlenberg Township. See 76 FR 72097. The November 22, 2010 designations, including the North Reading Area nonattainment designation, became effective on December 31, 2010.²

² EPA completed a second and final round of designations for the 2008 lead NAAQS on November 22, 2011. See 76 FR 72097. No additional areas in Pennsylvania were designated as nonattainment for the 2008 lead NAAQS in the November 22, 2011 designations.

The designation of the North Reading Area as nonattainment for the 2008 lead NAAQS triggered requirements under section 191(a) of the CAA, requiring Pennsylvania to submit a SIP revision with a plan for how the Area will attain the 2008 lead NAAQS, as expeditiously as practicable, but no later than December 31, 2015.

II. Summary of SIP Revision

On August 12, 2015, in accordance with section 172(c) of the CAA, Pennsylvania submitted an attainment plan for the North Reading Area which includes a base year emissions inventory, an attainment demonstration, an analysis of RACM and RACT, provisions for RFP, and contingency measures. The SIP revision also includes paragraph 3 of the COA between Exide and PADEP and paragraphs 5 and 22 of the COA between Yuasa and PADEP. EPA's analysis of the submitted attainment plan includes a review of these elements for the North Reading Area.

As part of the promulgation of the 2008 lead NAAQS, EPA revised the air monitoring requirements for lead. In accordance with the revised monitoring requirements, air monitors near sources in Pennsylvania that emit one ton per year (tpy) or more were in place by January 2010. The monitoring requirements for lead were further revised on December 27, 2010, when EPA lowered the monitoring requirement for stationary sources down to those that emit 0.5 tpy of lead among other changes. See 75 FR 81126.

Pennsylvania's lead monitoring network consists of lead monitors that have been designated by EPA as either Reference or Equivalent monitors and are subject to the federal quality assurance requirements of 40 CFR part 58, appendix A. All samplers are located at sites that have met the minimum siting requirements of 40 CFR part 58, appendices D and E.

PADEP currently operates two ambient air monitors in the North Reading Area. The Laureldale South monitor has been in place since 1976 and the Laureldale North monitor since January 1, 2010.³ As required in 40 CFR 58.10, Pennsylvania must provide EPA with an annual network design plan in order to inform both EPA and the public of any planned changes to the sampling network for the next year. EPA approved Pennsylvania's 2015 Annual Air Quality Monitoring Network Design Plan, the most recent year available at the time of this evaluation, on November 12, 2015.

³ The Laureldale North monitor (AQS 42-011-0020) is associated with the Exide facility located in Berks County and was installed in accordance with EPA's network design requirements for the 2008 lead NAAQS. 73 FR 66964. EPA reaffirmed placement of lead ambient air monitors in Pennsylvania when approving Pennsylvania's lead infrastructure SIP for the 2008 NAAQS as meeting requirements in section 110(a)(1) and (2) of the CAA. See 79 FR 19009 (April 7, 2014). EPA's approval of the lead infrastructure SIP, particularly regarding the approval of Pennsylvania's monitoring locations for section 110(a)(2)(B), was upheld in 2015 by the United States Court of Appeal for the Third Circuit. Berks County v. EPA, 3rd Cir. No. 14-2913, 2015 U.S. App. LEXIS 14050 (August 11, 2015).

1. Emissions Inventory Requirements

Section 172(c)(3) of the CAA requires a state to submit a SIP that includes a “comprehensive, accurate, current inventory of actual emissions from all sources of the relevant pollutant” in the nonattainment area. In the 2008 lead NAAQS rulemaking on November 12, 2008, EPA finalized guidance related to the emissions inventories requirements for lead. See 73 FR 66964.

For the base year inventory of actual lead emissions for CAA 172(c)(3), EPA recommends using either 2010 or 2011 as the base year, but does provide flexibility for using other inventory years if states can show another year is more appropriate. Additionally, EPA guidance provides that actual emissions should be used for purposes of the base year inventory.⁴ PADEP submitted a 2010 inventory for the point sources of lead emissions in the North Reading Area, which includes Exide and Yuasa.

⁴ See “Addendum to the 2008 Lead NAAQS Implementation Questions and Answers” dated August 10, 2012, which is included in EPA's SIP Toolkit located at www3.epa.gov/airquality/lead/implement.html.

For the nonpoint sources of lead emissions, PADEP submitted EPA's 2011 National Emissions Inventory (NEI) v2 data as a surrogate for the 2010 inventory. The nonpoint source values for the North Reading Area were calculated using Berks County data apportioned by population.

EPA reviewed the results, procedures, and methodologies for Pennsylvania's submission and found them to be reasonable for calculating the lead base year inventory for section 172(c)(3) of the CAA and in accordance with 40 CFR 51.117(e). A more detailed description of the PADEP's use and calculation of inventories as well as EPA's analysis of PADEP's base inventory for CAA requirements is included in the TSD prepared in support of this proposed rulemaking action. A copy of the Base Inventory TSD can be found in the docket for this proposed action (EPA-R03-OAR-2015-0773) at www.regulations.gov. In this action, EPA is proposing to approve the base year emissions inventory submitted by Pennsylvania on August 12, 2015, as it meets requirements in section 172(c)(3) of the CAA.

2. Attainment Planning Modeling

Section 172(c)(4) of the CAA and the lead SIP regulations found at 40 CFR 51.117 require states to employ atmospheric dispersion modeling for the demonstration of attainment of the lead NAAQS for areas in the vicinity of point sources listed in 40 CFR 51.117(a)(1), as expeditiously as practicable. The demonstration must meet the requirements of 40 CFR 51.112 and part 51, appendix W, and include inventory data, modeling results, and emissions reduction analyses on which the state has based its projected attainment. All these requirements comprise the “attainment plan” that is required for lead nonattainment areas.

As part of a state's attainment plan, 40 CFR 51.117(a) provides that states must include an analysis showing that the SIP will attain and maintain the standard in areas in the vicinity of certain point sources that are emitting significant emissions of lead and also in “[a]ny other area that has lead air concentrations in excess of the national ambient air quality standard concentration.” These sources include primary and secondary lead smelters, primary copper smelters, lead gasoline additive plants, lead-acid storage battery manufacturing plants, and any other stationary source that emits 25 or more tpy of lead or lead compounds measured as elemental lead. 40 CFR 51.117(a)(1). In doing this analysis, EPA expects a state will take into consideration all sources of lead emissions within the nonattainment area that may be required to be controlled.

In its SIP submittal, Pennsylvania identified one facility as having the potential to emit 0.5 tpy or more of lead in the North Reading Area. This facility, Exide Technologies, a secondary lead smelter, was included in PADEP's modeling analysis. Yuasa, a lead-acid battery assembly plant located across the street from Exide, was also included in the modeling analysis. Lead emissions from nonpoint sources and mobile sources were also examined but found to be insignificant and while included in PADEP's lead inventory, they were not included in the lead modeling demonstration due to their insignificance.

In accordance with 40 CFR part 51, appendix W, PADEP completed an air-dispersion modeling analysis for base year and future year emission inventories representing Exide and Yuasa, with reported lead emissions in 2010 and projected emissions for 2015. The 2015 lead emissions were used in the modeled attainment demonstration to determine if projected lead emission rates would comply with the 2008 lead NAAQS. The 2015 lead emissions for Exide and Yuasa were determined by incorporating emission reductions from the implementation of the control measures set forth in the National Emission Standards for Hazardous Air Pollutants for Secondary Lead Smelting sources (Secondary Lead Smelting NESHAP) and from the stack-specific emission limits identified in the COAs between Pennsylvania and Exide and Yuasa.⁵ PADEP modeled seventy-seven lead emission sources for Exide and twenty-seven lead emission sources for Yuasa. Table 1 summarizes 2010 and 2015 lead emissions compiled by the Commonwealth for both Exide and Yuasa.

⁵ PADEP's RACM/RACT proposal for Exide, which includes measures that would require the facility to meet the requirements of the Secondary Lead Smelting NESHAP, is contained within Exide's Plan Approval No. 06-05066I.

Table 1—North Reading Lead Source Emissions Summary (tpy)
Lead source | 2010 lead emissions (actual) | 2015 lead emissions (projected)
Exide | 1.0417 | 0.8991
Yuasa | 0.1520 | 0.0850

EPA has found that PADEP's modeling demonstration was done in accordance with appendix W of 40 CFR part 51 and the modeling indicates that the Area will meet the 2008 lead NAAQS.

Because the Area had monitored violations of the 2008 lead NAAQS in January 2013, before Exide began idling, the Area will not attain the NAAQS by December 2015 (the Area's attainment date pursuant to section 192 of the CAA) based on ambient air quality over 36 consecutive 3-month periods. However, there have been no monthly periods which have exceeded 0.15 µg/m³ since March 2013.6 7 As such, the 3-month rolling averages from mid-year 2013 and after have been below 0.15 µg/m³ and the Area is on track to meet the 2008 lead NAAQS. EPA and PADEP expect the 2008 lead NAAQS to be attained on the basis of 2014-2016 ambient data as a result of implementation of PADEP's August 12, 2015 SIP revision.

⁶ The daily averages used to calculate 3-month averages are given in appendices A-2 and A-3 in PADEP's August 12, 2015 submittal, which can be found in docket for this rulemaking action.

⁷ Environmental Protection Agency. Air Quality System Data Mart [internet database] available at http://www.epa.gov/ttn/airs/aqsdatamart. Accessed December 3, 2015.

The projected 2015 emissions inventory used the maximum allowable lead emissions for both Exide and Yuasa. While Exide is currently idling, it has not installed all of the control measures necessary for the Secondary Lead Smelting NESHAP and its Plan Approval No. 06-05066I. However, pursuant to the COA between Exide and Pennsylvania, Exide cannot resume operations at the facility without demonstrating compliance with the control measures specified in the Plan Approval No. 06-05066I and in its COA. The future year maximum allowable lead emissions were developed from the control measures included in Pennsylvania's attainment plan. However, even if Exide's operations remain idled and controls not installed until it resumes operations, its potential lead emissions while idling will continue to be less than if it were operating under the NESHAP and COA controls and limits.

EPA has evaluated the information provided in the Commonwealth's attainment plan for the North Reading Area and concludes that the Commonwealth's model attainment demonstration shows current lead control and emission limits will provide for attainment of the 2008 lead NAAQS and the modeling meets the requirements in the CAA and its implementing regulations.

More detailed information on the modeling system tools and documents used for the model attainment demonstration for the Area and EPA's analysis of PADEP's modeling can be found on the EPA Technology Transfer Network Support Center for Regulatory Atmospheric Modeling (SCRAM), in Pennsylvania's August 12, 2015 submittal, and in the EPA's Modeling TSD which can be found in the docket for this proposed action (EPA-R03-OAR-2015-0773) at www.regulations.gov.⁸

⁸ http://www.epa.gov/ttn/scram/.

3. RACM, RACT, and RFP Analysis

According to section 172(c)(1) of the CAA and 40 CFR 51.112, Demonstration of Adequacy, attainment plans shall provide for RACM and RACT and must demonstrate that the measures, rules, and regulations contained in it are adequate to provide for the timely attainment and maintenance of the national standard that it implements.

In order to bring the North Reading Area into attainment for the 2008 lead NAAQS, Pennsylvania developed and modeled a control strategy for emissions from stacks at stationary sources and fugitive emissions from stationary sources from the two point sources of lead in the nonattainment area. Section IV of Pennsylvania's attainment plan SIP revision details the control measures and emission limits for the North Reading Area.

Pursuant to section 172(c)(1) of the CAA, attainment plans must provide for the implementation of all RACM as expeditiously as practicable for each nonattainment area. Section 172(c)(1) of the CAA requires RACM and emission reductions from sources through RACT to provide for attainment of the NAAQS. In March 2012, EPA issued guidance titled, “Guide to Developing Reasonably Available Control Measures (RACM) for Controlling Lead Emissions” (RACM Guidance).⁹

⁹ http://www3.epa.gov/airquality/lead/pdfs/2012ImplementationGuide.pdf.

In the final rule for the 2008 lead NAAQS, EPA recommended that at least all stationary sources emitting 0.5 tpy or more should undergo a RACT review.¹⁰ At the time Pennsylvania was developing its attainment plan SIP, Exide was the only stationary source within the North Reading Area that had the potential to emit 0.5 tpy or more of lead emissions. Therefore, Exide was the only point source within the North Reading Area which PADEP required to complete a RACT analysis. Exide performed a RACT analysis following EPA's RACM guidance for controlling lead emissions which PADEP adopted in Plan Approval No. 06 05066I and proposes as RACT.

¹⁰ See 73 FR 67038 (November 12, 2008).

Exide's RACT analysis is located in appendix C-3 of Pennsylvania's SIP revision. The control measures the PADEP implemented as RACT for Exide include a variety of control measures for the attainment plan which also address requirements in the Secondary Lead Smelting NESHAP. See 77 FR 556 (January 5, 2012).

A descriptive list of the measures which Exide must implement are included in table 9 of PADEP's SIP revision. EPA's review and analysis of Pennsylvania's RACT proposal for Exide can be found in the Control Strategies, Reasonable Further Progress, and Contingency Measures TSD found in the docket for this proposed action (EPA-R03-OAR-2015-0773) at www.regulations.gov.

EPA is proposing to approve Pennsylvania's determination that the controls for lead emissions at Exide constitute RACM/RACT because PADEP conducted a reasonable analysis of controls that are technically and economically feasible and set the lowest achievable limits given those controls in accordance with the CAA requirements. By approving these control measures as RACM/RACT for Exide for purposes of the North Reading attainment plan, these control measures will become permanent and federally enforceable and will meet the requirements of the CAA and the 2008 lead NAAQS.

In addition to the RACT analysis performed for Exide, Pennsylvania evaluated other sources and actions that could contribute meaningful emission reductions for RACM. In order to establish further enforceable controls as RACM to reduce lead emissions from lead point sources and fugitive lead sources, the Commonwealth developed and entered into two separate COAs, one COA with Exide and one COA with Yuasa. These COAs are located within the Pennsylvania attainment SIP revision in appendices C-1 and C-2 and, upon EPA approval of Pennsylvania's submittal, the portions of these COAs submitted for the SIP will become federally enforceable.

According to PADEP, the COA between Exide and Pennsylvania specifies control measures that have been demonstrated with air dispersion modeling to reduce Exide's lead emission contributions to the North Reading Area. Also in the COA are emission limits that are to be included in the Commonwealth's SIP as limiting factors for lead emissions control from the lead emitting stacks at the Exide facility. The COA limits the total stack lead emissions for Exide to 0.02479667 grams of lead per second (g/s).

However, Exide has been in an idling state since February 2013, and as a result its lead emissions have been reduced dramatically. Exide submitted to PADEP a deactivation cover letter and Maintenance and Activation Plan on January 31, 2014, which indicated that only two lead-emitting sources remain active during the facility's idling state. Source 131 Lime Storage Bin and Source 132 Plant Roadways continue to operate under the controls currently identified in the facility's Title V operating permit. In 2014, under this idled state, Exide emitted a total of 0.00004 tpy of lead, reflecting significant reductions from its prior lead emissions due to idling.

Included in the COA between Pennsylvania and Exide is the requirement that Exide shall not resume operation of any portion of the facility until Exide has completed all of the modification work specified in Exide's Plan Approval No. 06-05066I, which includes all requirements for the Secondary Lead Smelting NESHAP.

According to PADEP's attainment plan, the COA between Yuasa and Pennsylvania specifies control measures that have been demonstrated with air dispersion modeling to reduce Yuasa's contribution to lead emissions in the North Reading Area. The COA with Yuasa includes emission limits as well as requirements for stack testing, recordkeeping, monitoring, and progress reports. The COA limits the total stack lead emissions for Yuasa to 0.002279522 g/s, to which Yuasa must adhere by December 31, 2015. Yuasa must demonstrate compliance with these limits, via reference method stack testing, by no later than June 30, 2016.

Upon EPA final approval of the Pennsylvania lead attainment plan SIP revision for the North Reading Area, the limits and measures (in paragraph 3 for Exide and paragraphs 5 and 22 for Yuasa) within the COAs for Exide and Yuasa will become federally enforceable. EPA finds the measures contained in the COAs for Yuasa and Exide provide for implementation of all RACM as expeditiously as practicable to provide for attainment of the 2008 lead NAAQS in accordance with the requirements in section 172(c)(1) of the CAA and its implementing regulations. Further details of EPA's review of the RACM for Yuasa and Exide is provided in the Control Strategies, Reasonable Further Progress, and Contingency Measures TSD found in the docket for this proposed action (EPA-R03-OAR-2015-0773) at www.regulations.gov.

In accordance with section 172(c)(2) of the CAA, attainment plans must also provide for RFP. Section 171(1) of the CAA defines RFP as annual incremental reductions in emissions of the relevant air pollutants as required by Title I, Part D of the CAA, or emission reductions that may reasonably be required by EPA to ensure attainment of the applicable NAAQS by the applicable date.¹¹ EPA believes that RFP for lead nonattainment areas should be met by “adherence to an ambitious compliance schedule” which is expected to periodically yield significant emission reductions, and as appropriate, linear progress.¹²

¹¹ Incremental reductions in lead emissions are not specified in Part D.

¹² See 73 FR 67038 (November 12, 2008).

In its August 12, 2015 submittal, PADEP presented the COAs with Exide and Yuasa as providing for RFP. Overall, EPA finds that the control strategies for both Exide and Yuasa will provide for immediate reductions in lead emissions in the Area. Yuasa's reductions will be implemented by December 2015. Although Exide's reductions in lead from the control strategies in the COA have not been implemented yet, the plant has no lead smelting in operation and thus reductions in lead have already occurred. While the lead emissions reductions are not staggered or phased and therefore the ambient air quality concentrations are not expected to decrease over a long period of time, the lead reductions have already most notably occurred after Exide began its idling state in February 2013. Since shortly after Exide began idling, all of the North Reading Area's ambient air monitors have been reporting 3-month rolling averages well below the 2008 lead NAAQS. As ambient air quality concentrations have dropped, and have remained, below 0.15 µg/m ³, EPA believes that the Area has made RFP towards attainment.

As provided in the COA between Exide and PADEP, if Exide seeks to resume its lead smelting operations at its facility, Exide would first need to comply with all of the control measures necessary to comply with the Secondary Lead Smelting NESHAP as well as the control measures specified in the COA. Upon implementation of these control strategies, Pennsylvania's modeling shows the ambient air quality concentrations should continue below the attainment level. Therefore, the Area should continue to attain the 2008 lead NAAQS whether Exide is operating or not and EPA thus finds that PADEP has met its RFP requirements for the North Reading Area.

In summary, EPA finds the Pennsylvania attainment plan for North Reading Area meets CAA requirements in section 172 of the CAA for RACM/RACT and RFP. Further EPA analysis and reasoning supporting EPA's conclusion is available in the Control Strategies, Reasonable Further Progress, and Contingency Measures TSD found in the docket for this proposed action (EPA-R03-OAR-2015-0773) at www.regulations.gov.

4. Contingency Measures

As required by section 172(c)(9) of the CAA, an attainment demonstration must include contingency measures to be implemented if EPA determines that the nonattainment area in question has failed to make RFP or if the area fails to attain the NAAQS by the attainment date in December 2015. These measures must be fully adopted rules or control measures that can be implemented quickly and without additional EPA or state action if the area fails to meet RFP requirements or fails to meet it attainment date. Contingency measures should contain trigger mechanisms and an implementation schedule. In addition, these measures should not already be included in the SIP control strategy for attaining the standard.¹³

¹³ See 73 FR 67038 (November 12, 2008).

For the North Reading Area attainment plan, Pennsylvania's SIP submission provides that if the air quality data for any 3-month rolling period after the implementation of the control measures identified in the COAs and Plan Approval No. 06-05066I exceed the 0.15 µg/m³ lead NAAQS, at least one of the contingency measures set forth in the COAs shall be implemented.

The COA between Pennsylvania and Exide includes for contingency measures: Upgrade of existing fugitive dust control devices; increase existing lead emission stack heights; increased frequency of plant roadway surface cleaning; and an investigative study.¹⁴ PADEP will use two types of triggers, ambient air quality and emission events, for the implementation of contingency measures in the North Reading Area. Detailed information regarding the contingency measure actions and contingency measure triggers for Exide and Yuasa as well as EPA's analysis of these contingency measures for compliance with CAA requirements, can be found in the Control Strategies, Reasonable Further Progress, and Contingency Measures TSD located in the docket for this proposed action (EPA-R03-OAR-2015-0773) at www.regulations.gov.

¹⁴ The COA between Pennsylvania and Yuasa includes an investigative study as a contingency measure for Yuasa. Appendix C-2 in PADEP's August 12, 2015 submittal, which can be found in docket for this rulemaking action.

EPA finds these contingency measure triggers and actions will help ensure compliance with the 2008 lead NAAQS and meet the requirements of section 172(c)(9) of the CAA to ensure continued attainment of the NAAQS if any events occur interfering with attainment. EPA proposes to approve Pennsylvania's SIP revision as meeting section 172(c)(9) of the CAA.

III. Proposed Action

EPA's review of Pennsylvania's August 12, 2015 SIP revision for the attainment plan for the North Reading Area satisfies the applicable requirements of the CAA identified in EPA's final 2008 lead NAAQS rule and in section 172 of the CAA and its implementation regulations.¹⁵ EPA finds the attainment plan will result in attainment of the 0.15 µg/m³ standard for the 2008 lead NAAQS in the North Reading Area. EPA is proposing to approve the Pennsylvania SIP revision, which was submitted on August 12, 2015, for the North Reading nonattainment area for the 2008 lead NAAQS and includes the attainment demonstration, base year emissions inventory, RACM/RACT and RFP analyses, and contingency measures. EPA also proposes to approve for inclusion in the Pennsylvania SIP paragraph 3 of the COA between Exide and PADEP, dated June 15, 2015 and paragraphs 5 and 22 of the COA, dated June 12, 2012, between Yuasa and PADEP, as control measures for the attainment plan. EPA is soliciting public comments on the issues discussed in this document. These comments will be considered before taking final action.

¹⁵ Section 172(c)(5) of the CAA requires permits for the construction and operation of new and modified major stationary sources anywhere in a nonattainment area. The Pennsylvania SIP includes provisions consistent with the federal requirements, set forth at 40 CFR 51.165, for nonattainment new source review (NSR). Yuasa is considered a natural minor for purposes of nonattainment NSR for all pollutants, including lead.

IV. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule regarding PADEP's lead attainment plan for the North Reading Area, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Lead.

Authority: 42 U.S.C. 7401 et seq.

Dated: December 21, 2015.
Shawn M. Garvin,
Regional Administrator, Region III.

[FR Doc. 2015-33303 Filed 1-8-16; 8:45 am]

BILLING CODE 6560-50-P